GENERAL SERVICES ADMINISTRATION

48 CFR Part 570

[GSAR Case 2021-G524; Docket No. GSA-GSAR 2021-0019; Sequence No. 1]

RIN 3090-AK49

General Services Administration Acquisition Regulation (GSAR); Updates to Certain Online References in the GSAM

AGENCY: Office of Acquisition Policy, General Services Administration (GSA).

ACTION: Final rule.

SUMMARY: The General Services Administration (GSA) is issuing a final rule amending the General Services Administration Acquisition Regulation (GSAR) to update an outdated reference to a legacy website.

DATES: Effective October 1, 2021.

FOR FURTHER INFORMATION CONTACT: Mr. Tyler Piper or Mr. Stephen Carroll at 817-253-7858 or gsarpolicy@gsa.gov, for clarification of content. For information pertaining to status or publication schedules, contact the Regulatory Secretariat at 202-501-4755. Please cite GSAR Case 2021-G524.

SUPPLEMENTARY INFORMATION:

I. Background

GSA's Integrated Award Environment integrated the legacy SAM.gov into the beta.SAM.gov environment on May 24, 2021, migrating the functionality of SAM.gov into beta.SAM.gov. The term “beta” is retired, and there is now only one SAM.gov.

II. Authority for This Rulemaking

Title 40 of the United States Code (U.S.C.) Section 121 authorizes GSA to issue regulations, including the GSAR, to control the relationship between GSA and contractors.

III. Discussion and Analysis

The System for Award Management (SAM) has officially gone live, and as such the URL to reach it has changed from https://beta.sam.gov to https://www.sam.gov. This rule simply updates an outdated URL reference to the new website.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule has been reviewed and determined by OMB not to be a significant regulatory action and, therefore, was not subject to review under section 6(b) of E.O. 12866, Regulatory Planning and Review, dated September 30, 1993.

V. Congressional Review Act

The Congressional Review Act, 5 U.S.C. 801 et seq., as amended by the Small Business Regulatory Enforcement Fairness Act of 1996, generally provides that before a “major rule” may take effect, the agency promulgating the rule must submit a rule report, which includes a copy of the rule, to each House of the Congress and to the Comptroller General of the United States. A major rule cannot take effect until 60 days after it is published in the Federal Register. This rule has been reviewed and determined by OMB not to be a “major rule” under 5 U.S.C. 804(2).

VI. Notice for Public Comment

The statute that applies to the publication of the GSAR is the Office of Federal Procurement Policy statute (codified at title 41 of the United States Code). Specifically, 41 U.S.C. 1707(a)(1) requires that a procurement policy, regulation, procedure or form (including an amendment or modification thereof) must be published for public comment if it relates to the expenditure of appropriated funds, and has either a significant effect beyond the internal operating procedures of the agency issuing the policy, regulation, procedure, or form, or has a significant cost or administrative impact on contractors or offerors. This rule is not required to be published for public comment, because it does not have a significant effect or impose any new requirements on contractors or offerors. The rule simply replaces website references.

VII. Regulatory Flexibility Act

The Regulatory Flexibility Act (5 U.S.C. 601 et seq.) does not apply to this rule, because an opportunity for public comment is not required to be given for this rule under 41 U.S.C. 1707(a)(1) (see Section VI. of this preamble). Accordingly, no regulatory flexibility analysis is required and none has been prepared.

VIII. Paperwork Reduction Act

This rule does not contain any information collection requirements that require the approval of the Office of Management and Budget under the Paperwork Reduction Act (44 U.S.C. chapter 35).

List of Subjects in 48 CFR Part 570

Government procurement.

Jeffrey Koses,
Senior Procurement Executive, Office of Acquisition Policy, Office of Government-wide Policy, General Services Administration.

Therefore, GSA amends 48 CFR part 570 as set forth below:

PART 570—ACQUIRING LEASEHOLD INTERESTS IN REAL PROPERTY

1. The authority citation for part 570 continues to read as follows:

Authority: 40 U.S.C. 121(c).

570.106 [Amended]

2. Amend section 570.106 in paragraph (a) by removing “Governmentwide Point of Entry (GPE) at https://beta.sam.gov or successor system” and adding “System for Award Management Contract Opportunities at https://www.sam.gov” in its place.

[FR Doc. 2021-18847 Filed 8-31-21; 8:45 am]

BILLING CODE 6820-61-P